DEPARTMENT OF HEALTH AND HUMAN SERVICES

National Institutes of Health

National Center for Complementary & Alternative Medicine; Amended Notice of Meeting

Notice is hereby given of a change in the meeting of the National Center for Complementary and Alternative Medicine Special Emphasis Panel, March 24, 2009, 8 a.m. to March 25, 2009, 5 p.m., National Institutes of Health, Two Democracy Plaza, 6707 Democracy Boulevard, Bethesda, MD 20892 which was published in the Federal Register on February 17, 2009, 74 FR 7452.

This meeting is being amended to reschedule the meeting to April 13-14, 2009 from 8 a.m. to 5 p.m. The meeting is closed to the public.

Dated: March 24, 2009.
Jennifer Spaeth,
Director, Office of Federal Advisory Committee Policy.

[FR Doc. E9-7263 Filed 4-2-09; 8:45 am]

BILLING CODE 4140-01-M